DEPARTMENT OF LABOR

Employment and Training Administration

[TA-W-59,909]

McCormick and Co., Inc., CPD—Salinas Plant, Including On-Site Leased Workers of Spherion Staffing Group, Salinas, CA; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on August 31, 2006, applicable to workers of McCormick and Co., Inc., CPD—Salinas Plant, Salinas, California. The notice was published in the Federal Register on September 21, 2006 (71 FR 55216).

At the request of the State agency, the Department reviewed the certification for workers of the subject firm. The workers were engaged in the production of spices.

New information shows that leased workers of Spherion Staffing Group were employed on-site at the Salinas, California location of McCormick and Co., Inc., CPD—Salinas Plant. The Department has determined that the Spherion Staffing Group workers were sufficiently under the control of McCormick and Co., Inc. to be considered leased workers.

Based on these findings, the Department is amending this certification to include leased workers of Spherion Staffing Group working on-site at the Salinas, California location of the subject firm.

The intent of the Department's certification is to include all workers employed at McCormick and Co., Inc., CPD—Salinas Plant, including on-site leased workers of Spherion Staffing Group, Salinas, California who were adversely affected by a shift in production to Canada.

The amended notice applicable to TA-W-59,909 is hereby issued as follows:

”All workers of McCormick and Co., Inc., CPD—Salinas Plant, including on-site leased workers of Spherion Staffing Group, Salinas, California, who became totally or partially separated from employment on or after August 14, 2005 through August 31, 2008, are eligible to apply for adjustment assistance under section 223 of the Trade Act of 1974, and are also eligible to apply for alternative trade adjustment assistance under Section 246 of the Trade Act of 1974.”

Signed at Washington, DC, this 26th day of July, 2007.
Richard Church,
Certifying Officer, Division of Trade Adjustment Assistance.

[FR Doc. E7-15000 Filed 8-1-07; 8:45 am]

BILLING CODE 4510-FN-P